DEPARTMENT OF ENERGY

Federal Energy Regulatory Commission

[Project No. 2603-050]

Northbrook Carolina Hydro II, LLC; HydroLand Carolinas I, LLC; Notice of Application for Transfer of License and Soliciting Comments, Motions To Intervene, and Protests

On May 13, 2021, Northbrook Carolina Hydro II, LLC (transferor) and HydroLand Carolinas I, LLC (transferee) filed jointly an application for the transfer of license of the Franklin Hydroelectric Project No. 2603. The project is located on the Little Tennessee River, near the City of Franklin, in Macon County, North Carolina.

The applicants seek Commission approval to transfer the license for the Franklin Hydroelectric Project from the transferor to the transferee.

Applicants Contact: For transferor: Mr. Kyle Kroeger, Northbrook Carolina Hydro II, LLC, c/o North Sky Capital, LLC, 33 South Sixth Street, Suite 4646, Minneapolis, MN 55402, Email: kkroeger@northskycapital.com and Mr. John C. Ahlrichs, Northbrook Energy, LLC, 14550 N Frank Lloyd Wright Blvd., Suite 210, Scottsdale, AZ 85260, Email: cahlrichs@nbenergy.com with a copy to: Mr. Curt Whitaker, c/o Rath, Young and Pignatelli, One Capital Plaza, Box 1500, Concord, NH 03302, Email: mcm@rathlaw.com.

For transferee: Mr. Cory Lagerstrom, CEO, HydroLand Carolinas I, LLC, c/o HydroLand, Inc., 4603 Homestead Drive, Prairie Village, KS 66208, Email: cory@hydrolandcorp.com.

FERC Contact: Anumzziatta Purchiaroni, (202) 502-6191, anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-2603-050. Comments emailed to Commission staff are not considered part of the Commission record.

Dated: June 1, 2021.
Kimberly D. Bose,
Secretary.

[FR Doc. 2021-11848 Filed 6-4-21; 8:45 am]

BILLING CODE 6717-01-P